DEPARTMENT OF ENERGY

Federal Energy Regulatory Commission

[Project Nos. 11516-000, 11120-002, and 11300-000—Michigan]

Commonwealth Power Company; Notice of Availability of Draft Environmental Assessment

April 4, 2000.

In accordance with the National Environmental Policy Act of 1969 and the Federal Energy Regulatory Commission's (Commission) regulations, 18 CFR Part 380 (Order No. 486, 52 FR 47897), the Office of Energy Projects has reviewed the applications for original licenses for the proposed Irving and Middleville, and existing LaBarge Projects, collectively referred to as the Thornapple River Projects, located on the Thornapple River in Barry and Kent Counties, Michigan and has prepared a draft Environmental Assessment (EA) for the projects. In the draft EA, the Commission staff has analyzed the potential environmental effects of the projects and has concluded that approval of the projects, with appropriate environmental measures, would not constitute a major Federal action significantly affecting the quality of the human environment.

Copies of the draft EA are available for review in the Commission's Public Reference Branch, Room 2A, located at 888 First Street, NE, Washington, DC 20426. The draft EA may also be viewed on the Internet at http://www.ferc.fed.us/online/rims.htm. Please call (202) 208-2222 for assistance.

Any comments should be filed within 45 days from the date of this notice and should be addressed to David P. Boergers, Secretary, Federal Energy Regulatory Commission, 888 First Street, NE, Washington, DC 20426. Please affix “Irving Project FERC No. 11516-000; Middleville Project, FERC No. 11120-002; and LaBarge Project, FERC No. 11300-000 to all comments. For further information, please contact Mark Pawlowski at (202) 219-2795.

Comments, protests and interventions may be filed electronically via the Internet in lieu of paper. See, 18 CFR 385.2001(a)(1)(iii) and the instructions on the Commission's web site at http://www.ferc.fed.us/efi/doorbell.htm.

David P. Boergers,
Secretary.

[FR Doc. 01-8773 Filed 4-9-01; 8:45 am]

BILLING CODE 6717-01-M